DEPARTMENT OF EDUCATION

Measuring Educational Gain in the National Reporting System for Adult Education; Correction

AGENCY: Department of Education (ED).

ACTION: Correction notice.

SUMMARY: On March 9, 2017, the U.S. Department of Education published a 30-day comment period notice in the Federal Register (82 FR 13103) seeking public comment for an information collection entitled, “Measuring Educational Gain in the National Reporting System for Adult Education.” The date of the comment period included in the notice was for 60 days after publication of the notice instead of 30 days. Interested persons are invited to submit comments on or before April 14, 2017.

The Acting Director, Information Collection Clearance Division, Office of the Chief Privacy Officer, Office of Management, hereby issues a correction notice as required by the Paperwork Reduction Act of 1995.

Dated: March 9, 2017.
Tomakie Washington,
Acting Director, Information Collection Clearance Division, Office of the Chief Privacy Officer, Office of Management.

[FR Doc. 2017-05080 Filed 3-14-17; 8:45 am]

BILLING CODE P